DEPARTMENT OF ENERGY

Federal Energy Regulatory Commission

Combined Notice of Filings #2

Take notice that the Commission received the following electric rate filings:

Docket Numbers: ER10-1519-001; ER12-192-001.

Applicants: Liberty Electric Power, LLC.

Description: Triennial Clarification Letter of Liberty Electric Power, LLC.

Filed Date: 11/30/11.

Accession Number: 20111130-5359.

Comments Due: 5 p.m. ET 12/21/11.

Docket Numbers: ER11-4517-000.

Applicants: Puget Sound Energy, Inc.

Description: BPA NITSA Refund Report Compliance Filing to be effective N/A.

Filed Date: 12/1/11.

Accession Number: 20111201-5111.

Comments Due: 5 p.m. ET 12/22/11.

Docket Numbers: ER11-4518-000.

Applicants: Puget Sound Energy, Inc.

Description: BPA NOA 527 Refund Report Compliance Filing to be effective N/A.

Filed Date: 12/1/11.

Accession Number: 20111201-5120.

Comments Due: 5 p.m. ET 12/22/11.

Docket Numbers: ER12-327-000.

Applicants: L&L Energy LLC.

Description: Revised Petition to refile to be effective 11/16/2011.

Filed Date: 11/16/11.

Accession Number: 20111116-5003.

Comments Due: 5 p.m. ET 12/8/11.

Docket Numbers: ER12-346-000.

Applicants: Global Energy, LLC.

Description: Revised Petition to refile to be effective 11/10/2011.

Filed Date: 11/10/11.

Accession Number: 20111110-5072.

Comments Due: 5 p.m. ET 12/8/11.

Docket Numbers: ER12-503-000.

Applicants: NV Energy, Inc.

Description: Service Agreement No. 11-00141 NPC-CCWRD Network Integration Transmission Service to be effective 12/1/2011.

Filed Date: 12/1/11.

Accession Number: 20111201-5006.

Comments Due: 5 p.m. ET 12/22/11.

Docket Numbers: ER12-504-000.

Applicants: NorthWestern Corporation.

Description: Compliance Filing to Bring Accepted Reserve Energy Service Tariff into eTariff to be effective 12/1/2011.

Filed Date: 12/1/11.

Accession Number: 20111201-5012.

Comments Due: 5 p.m. ET 12/22/11.

Docket Numbers: ER12-505-000.

Applicants: ISO New England Inc., New England Power Pool Participants Committee.

Description: Regulation Pilot Program Re-Opener to be effective 2/10/2012.

Filed Date: 12/1/11.

Accession Number: 20111201-5045.

Comments Due: 5 p.m. ET 12/22/11.

Docket Numbers: ER12-506-000.

Applicants: Avista Corporation.

Description: Avista Corp Tariff 12 Revision to be effective 1/1/2012.

Filed Date: 12/1/11.

Accession Number: 20111201-5125.

Comments Due: 5 p.m. ET 12/22/11.

Docket Numbers: ER12-507-000.

Applicants: PacifiCorp.

Description: Amendment to FERC Volume No. 13 to be effective 1/1/2012.

Filed Date: 12/1/11.

Accession Number: 20111201-5152.

Comments Due: 5 p.m. ET 12/22/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2011.
Nathaniel J. Davis, Sr.,
Deputy Secretary.

[FR Doc. 2011-31611 Filed 12-8-11; 8:45 am]

BILLING CODE 6717-01-P